DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2016 Senior Executive Service (SES) Performance Review Boards.

DATES: This notice is effective September 1, 2016.

FOR FURTHER INFORMATION CONTACT: Cheryl Huffman, IRS, 250 Murall Drive, Kearneysville, WV 25430, (304) 264-5572.

SUPPLEMENTARY INFORMATION: Pursuant to 5 U.S.C. 4314(c)(4), this notice announces the appointment of members to the IRS's SES Performance Review Boards. The names and titles of the executives serving on the boards are as follows:

John M. Dalrymple, Deputy Commissioner for Services and Enforcement

Jeffrey J. Tribiano, Deputy Commissioner for Operations Support

Justin Abold-LaBreche, Initiative Director, Office of Compliance Analytics

David P. Alito, Deputy Division Commissioner, Wage & Investment

Michael C. Beebe, Deputy Director, Return Integrity and Correspondence Services, Wage & Investment

E. Faith Bell, IRS Acting Deputy Human Capital Officer, Human Capital Office

Carol A. Campbell, Director, Return Preparer Office

Daniel B. Chaddock, Associate Chief Information Officer, Enterprise Services, Information Technology

Robert S. Choi, Director, Employee Plans, Tax Exempt & Government Entities

Elia I. Christiansen, Executive Director, Office of Equity, Diversity & Inclusion

Cheryl P. Claybough, Director, Pass Through Entities Practice Area, Large Business & International

James P. Clifford, Director, Accounts Management, Wage & Investment

Kenneth C. Corbin, Director, Return Integrity and Compliance Services, Wage & Investment

Tracy L. DeLeon, Director, Corporate Data, Information Technology

Nanette M. Downing, Assistant Deputy Commissioner, Government Entities/Shared Service, Tax Exempt & Government Entities

Pamela Drenthe, Director, Withholding and International Individual Compliance Practice Area, Large Business & International

Alain Dubois, Deputy Chief, Financial Officer

Elizabeth A. Dugger, Assistant Deputy Commissioner for Operations Support

Nikole C. Flax, Deputy Chief, Appeals

John D. Fort, Deputy Chief, Criminal Investigation

Shelley M. Foster, Director, Examination Field, Small Business/Self-Employed

Karen L. Freeman, Associate Chief Information Officer, Enterprise Operations, Information Technology

Julieta Garcia, Director, Customer Assistance, Relationships and Education, Wage & Investment

Silvana G. Garza, Deputy Chief Information Officer for Operations, Information Technology

Ursula S. Gillis, Chief Financial Officer

Rena C. Girinakis, Deputy National Taxpayer Advocate, Taxpayer Advocate Service

Dietra D. Grant, Director, Field Assistance, Wage & Investment

Darren J. Guillot, Director, Collection—Field, Small Business/Self-Employed

Daniel S. Hamilton, Director, Enterprise Systems Testing, Information Technology

Donna C. Hansberry, Deputy Division Commissioner, Tax Exempt & Government Entities

Barbara Harris, Director, Northeastern Compliance Practice Area, Large Business & International

Nancy E. Hauth, Director, Examination Headquarters, Small Business/Self-Employed

Mary R. Hernandez, Deputy Associate Chief Information Officer, Enterprise Operations, Information Technology

Benjamin D. Herndon, Director, Research, Applied, Analytics & Statistics

Shenita L. Hicks, Director, Examination, Small Business/Self-Employed

John E. Hinding, Director, Cross Border Activities Practice Area, Large Business & International

Debra S. Holland, Commissioner, Wage & Investment

David W. Horton, Assistant Deputy Commissioner Compliance Integration, Large Business & International

Cecil T. Hua, Director, Enterprise Technology Implementation, Information Technology

Robert L. Hunt, Director, Operations Support, Small Business/Self-Employed

Sharon C. James, Associate Chief Information Officer, Cybersecurity, Information Technology

Robin DelRey Jenkins, Director, Collection—Campus, Small Business/Self-Employed

Edward T. Killen, Director, Privacy, Governmental Liaison and Disclosure

Robert M. Leahy Jr., Associate Chief Information Officer, Strategy and Planning, Information Technology

Terry Lemons, Chief, Communications & Liaison

Sunita B. Lough, Commissioner, Tax Exempt & Government Entities

Deborah Lucas-Trumbull, Director, Demand Management and Project Governance, Information Technology

William H. Maglin II, Associate Chief Financial Officer for Financial Management, Chief Financial Officer

Paul J. Mamo, Director, Submission Processing, Wage & Investment

Lee D. Martin, Director, Whistleblower's Office

Erick Martinez, Director of Field Operations—Northern Area, Criminal Investigation

Thomas D. Mathews, Director, Collection—Headquarters, Small Business/Self-Employed

Ivy S. McChesney, Director, Customer Accounts Services, Wage & Investment

Kevin Q. McIver, Chief, Agency-Wide Shared Services

Tina D. Meaux, Director, Central Compliance Practice Area, Large Business & International

Renee A. Mitchell, Director, Collection—Central, Small Business/Self-Employed

Mary E. Murphy, Deputy Commissioner, Small Business/Self-Employed

Frank A. Nolden, Director, Stakeholder, Partnership, Education & Communication, Wage & Investment

Douglas W. O'Donnell, Commissioner, Large Business & International

Kimberly A. Petty, Associate Chief Information Officer, Applications Development, Information Technology

Crystal K. Philcox, Chief of Staff

Sharon R. Porter, Director, Treaty and Transfer Pricing Operations Practice Area, Large Business & International

Mary S. Powers, Director, Operations Support, Wage & Investment

Scott B. Prentky, Director, Collection, Small Business/Self-Employed

Robert A. Ragano, Director, Submission Processing, Information Technology

Daniel T. Riordan, IRS Human Capital Officer, Human Capital Office

Tamera L. Ripperda, Director, Exempt Organizations, Tax Exempt & Government Entities

Kathy J. Robbins, Director, Enterprise Activities Practice Area, Large Business & International

Karen M. Schiller, Commissioner, Small Business/Self-Employed

Rene S. Schwartzman, IRS Identity Assurance Executive, Wage & Investment

Rosemary Sereti, Deputy Commissioner, Large Business & International

Theodore D. Setzer, Assistant Deputy Commissioner International, Large Business & International

Verline A. Shepherd, Associate Chief Information Officer for User and Network Services, Information Technology

Nancy A. Sieger, Deputy Associate Chief Information Officer for Applications Development, Information Technology

Sudhanshu K. Sinha, Director, Enterprise Architecture, Information Technology

Marla L. Somerville, Associate Chief Information Officer, Enterprise Information Technology Program Management Office, Information Technology

Carolyn A. Tavenner, Director, Affordable Care Act, Affordable Care Act Office

Kathryn D. Vaughan, Director, Examination—Campus, Small Business/Self-Employed

Peter C. Wade, Director, Technology Solutions, Small Business/Self-Employed

Kathleen E. Walters, Deputy IRS Human Capital Officer, Human Capital Office

Tina A. Walters, Director, Server Support and Services, Information Technology

Shanna R. Webbers, Chief Procurement Officer

Richard Weber, Chief, Criminal Investigation

Stephen A. Whitlock, Director, Office of Professional Responsibility

Kirsten B. Wielobob, Chief, Appeals

Lavena B. Williams, Director, Eastern Compliance Practice Area, Large Business & International

Johnny E. Witt, Deputy Director, Affordable Care Act Office

This document does not meet the Treasury's criteria for significant regulations.

John M. Dalrymple,
Deputy Commissioner for Services and Enforcement, Internal Revenue Service.

[FR Doc. 2016-20025 Filed 8-17-16; 4:15 pm]

BILLING CODE 4830-01-P